DEPARTMENT OF DEFENSE

GENERAL SERVICES ADMINISTRATION

NATIONAL AERONAUTICS AND SPACE ADMINISTRATION

[OMB Control No. 9000-0097]

Federal Acquisition Regulation; Submission for OMB Review; Taxpayer Identification Number Information

AGENCIES: Department of Defense (DOD), General Services Administration (GSA), and National Aeronautics and Space Administration (NASA).

ACTION: Notice of reinstatement request for an information collection requirement regarding an existing OMB clearance.

SUMMARY: Under the provisions of the Paperwork Reduction Act of 1995 (44 U.S.C. Chapter 35), the Federal Acquisition Regulation (FAR), Regulatory Secretariat has submitted to the Office of Management and Budget (OMB) a request to review and approve a request to reinstate a previously approved information collection requirement concerning Taxpayer Identification Number Information. A request for public comments was published at 73 FR 20613 on April 16, 2008. No comments were received.

Public comments are particularly invited on: Whether this collection of information is necessary; whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

DATES: Submit comments on or before July 1, 2009.

ADDRESSES: Submit comments regarding this burden estimate or any other aspect of this collection of information, including suggestions for reducing this burden, to: General Services Administration (GSA) Desk Officer, OMB, Room 10236, NEOB, Washington, DC 20503, and a copy to the General Services Administration, Regulatory Secretariat (VPR), 1800 F Street NW., Room 4041, Washington, DC 20405. Please cite OMB Control No. 9000-0097, Taxpayer Identification Number Information, in all correspondence.

FOR FURTHER INFORMATION CONTACT: Mr. Ernest Woodson, Procurement Analyst, Contract Policy Division, GSA, (202) 501-3775.

SUPPLEMENTARY INFORMATION:

A. Purpose

When the IRS issued its final regulations implementing section 6050M of the Tax Reform Act of 1986 (Pub. L. 99-514), the reporting requirements included the requirement to report certain modifications to contracts that were awarded before January 1, 1989, necessitating a revision to Subpart 4.9 of the FAR. As implemented by Section 6050M of the Tax Reform Act of 1986 (Pub. L. 99-514), the reporting requirements included the requirement to report certain modifications to contracts that were awarded before January 1, 1989 and entered into on or after April 1, 1990.

In accordance with 31 U.S.C. 7701(c), a contractor doing business with a Government agency is required to furnish its Tax Identification Number (TIN) to that agency. 31 U.S.C. 3325(d) requires the Government to include, with each certified voucher prepared by the Government payment office and submitted to a disbursing official, the TIN of the contractor receiving payment under the voucher. The TIN may be used by the Government to collect and report on any delinquent amounts arising out of the contractor's relationship with the Government. The TIN is also required for Government reporting of certain contract information and payment information to the IRS.

B. Annual Reporting Burden

Respondents: 250,000.

Responses per Respondent: 2.

Total Responses: 500,000.

Hours per Response: .39.

Total Burden Hours: 195,000.

Obtaining Copies of Proposals: Requesters may obtain a copy of the information collection documents from the General Services Administration, Regulatory Secretariat (VPR), 1800 F Street NW., Room 4041, Washington, DC 20405, telephone (202) 501-4755. Please cite OMB Control No. 9000-0097, Taxpayer Identification Number Information, in all correspondence.

Dated: May 22, 2009.
Edward Loeb,
Acting Director, Office of Acquisition Policy.

[FR Doc. E9-12585 Filed 5-29-09; 8:45 am]

BILLING CODE 6820-EP-P